FEDERAL COMMUNICATIONS COMMISSION

[FR ID 307353]

Sunshine Act; Deletion of Item From August 07, 2025 Open Meeting

August 05, 2025.

The following item was adopted by the Commission on August 04, 2025 and deleted from the list of items scheduled for consideration at the August 07, 2025, Open Meeting. The item was previously listed in the Commission's Sunshine Notice on Thursday, July 31, 2025.

Item No. | Bureau | Subject
4 | Wireline Competition | TITLE: Evaluating the Deployment of Advanced Telecommunications (GN Docket No. 25-223).
|  | SUMMARY: The Commission will consider a Notice of Inquiry that would initiate the annual assessment of whether advanced telecommunications capability is being deployed to all Americans in a reasonable and timely fashion, as required by section 706 of the Telecommunications Act of 1996.
6 | Public Safety and Homeland Security | TITLE: Resilient Networks (PS Docket No. 21-346); Amendments to Part 4 of the Commission's Rules Concerning Disruptions to Communications (PS Docket No. 15-80); New Part 4 of the Commission's Rules Concerning Disruptions to Communications (ET Docket No. 04-35).
|  | SUMMARY: The Commission will consider a Notice of Proposed Rulemaking that proposes to reduce the reporting burdens on communication service providers during disasters through the modernization of DIRS. The Commission will also consider an accompanying Order on Reconsideration that clarifies the situations in which outage reporting requirements are suspended during DIRS activations.
7 | Wireline Competition | TITLE: Price Cap Business Data Services (WC Docket No. 21-17); Regulation of Business Data Services for Rate-of-Return Local Exchange Carriers (WC Docket No. 17-144).
|  | SUMMARY: The Commission will consider a Notice of Proposed Rulemaking and Third Further Notice of Proposed Rulemaking that would propose to end rate regulation and tariffing obligations for legacy circuit-based business data services provided by incumbent local exchange carriers, and an Order temporarily pausing the triennial update to the competitive market tests pending review of the record in this proceeding.

Authority: This meeting is held, in accordance with the Government in the Sunshine Act (Sunshine Act), Public Law 94-409, as amended (5 U.S.C. 552b).

Federal Communications Commission.
Marlene Dortch,
Secretary.

[FR Doc. 2025-15084 Filed 8-6-25; 11:15 am]

BILLING CODE 6712-01-P